NUCLEAR REGULATORY COMMISSION

[Docket No. 50-341; NRC-2017-0072]

DTE Electric Company; Fermi, Unit 2; Withdrawal

AGENCY: Nuclear Regulatory Commission.

ACTION: Withdrawal.

SUMMARY: The U.S. Nuclear Regulatory Commission (NRC) is withdrawing a notice that was published in the Federal Register (FR) on March 15, 2017, regarding the consideration of issuance of an amendment to Renewed Facility Operating License No. NPF-43, issued to DTE Electric Company for the operation of Fermi, Unit 2. This action is necessary because the notice was published in error.

DATES: The withdrawal is effective March 22, 2017.

ADDRESSES: Please refer to Docket ID NRC-2017-0072 when contacting the NRC about the availability of information regarding this document. You may obtain publicly-available information related to this document using any of the following methods:

• Federal Rulemaking Web site: Go to http://www.regulations.gov and search for Docket ID NRC-2017-0072. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

FOR FURTHER INFORMATION CONTACT: Sujata Goetz, Office of Nuclear Reactor Regulation, U.S. Nuclear Regulatory Commission, Washington, DC 20555-0001; telephone: 301-415-8004; email: Sujata.Goetz@nrc.gov.

SUPPLEMENTARY INFORMATION: On March 15, 2017, the NRC published FR Doc. 2017-05120, regarding a license amendment application for Fermi, Unit 2. This publication was made in error, as an identical notice was published on March 13, 2017 (82 FR 13512); that document stated that comments on the license amendment application should be submitted by April 12, 2017, and a request for hearing or petition for leave to intervene to be filed by May 12, 2017.

The NRC's March 15, 2017, notice is hereby withdrawn, because it duplicates the notice published on March 13, 2017. Comments should be submitted by April 12, 2017, and a request for a hearing or petition for leave to intervene should be filed by May 12, 2017.

Dated at Rockville, Maryland, this 17th day of March 2017.
For the Nuclear Regulatory Commission.
Leslie S. Terry,
Acting Chief, Rules, Announcements, and Directives Branch, Division of Administrative Services, Office of Administration.

[FR Doc. 2017-05714 Filed 3-21-17; 8:45 am]

BILLING CODE 7590-01-P